DEPARTMENT OF TRANSPORTATION

Federal Highway Administration

Notice of Final Federal Agency Actions on Proposed Highway Projects in Texas

AGENCY: Texas Department of Transportation (TxDOT), Federal Highway Administration (FHWA), U.S. Department of Transportation.

ACTION: Notice of limitation on claims for judicial review of actions by TxDOT and Federal agencies.

SUMMARY: This notice announces actions taken by TxDOT and Federal agencies that are final. The environmental review, consultation, and other actions required by applicable Federal environmental laws for these projects are being, or have been, carried-out by TxDOT pursuant to an assignment agreement executed by FHWA and TxDOT. The actions relate to various proposed highway projects in the State of Texas. These actions grant licenses, permits, and approvals for the projects.

DATES: By this notice, TxDOT is advising the public of final agency actions subject to 23 U.S.C. 139(l)(1). A claim seeking judicial review of TxDOT and Federal agency actions on the highway projects will be barred unless the claim is filed on or before the deadline. For the projects listed below, the deadline is September 15, 2019. If the Federal law that authorizes judicial review of a claim provides a time period of less than 150 days for filing such a claim, then that shorter time period still applies.

FOR FURTHER INFORMATION CONTACT: Carlos Swonke, Environmental Affairs Division, Texas Department of Transportation, 125 East 11th Street, Austin, Texas 78701; telephone: (512) 416-2734; email: carlos.swonke@txdot.gov. TxDOT's normal business hours are 8:00 a.m.-5:00 p.m. (central time), Monday through Friday.

SUPPLEMENTARY INFORMATION: The environmental review, consultation, and other actions required by applicable Federal environmental laws for these projects are being, or have been, carried-out by TxDOT pursuant to 23 U.S.C. 327 and a Memorandum of Understanding dated December 16, 2014, and executed by FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting TxDOT at the address provided above.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act, 33 U.S.C. 1251-1377 (Section 404, Section 401, Section 319); Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. SH 289 from North of Business 289C to North of CR 60/CR 107 in Collin County, Texas. The proposed project would reconstruct and widen the roadway from a two-lane undivided roadway to an urban four-lane divided highway. The proposed improvements would consist of one 12-foot travel lane and one 14-foot outside shared-use lane in each direction, and a 42-foot raised center median. The length of the proposed project is approximately 2.56 miles. The purpose of the proposed project is to improve mobility and traffic operations for existing and future traffic demand in the project area. The actions by TxDOT and Federal agencies and the laws under which such actions were taken are described in, the Categorical Exclusion Determination issued on December 18, 2018, and other documents in the TxDOT project file. The Categorical Exclusion Determination and other documents in the TxDOT project file are available by contacting TxDOT at the address provided above or the TxDOT Dallas District Office at 4777 E Highway 80, Mesquite, TX 75150; telephone (214) 320-4480.

2. IH 45 Central Walker County Project Segment 2A, from 0.3 miles north of SH 19 to 0.9 miles north of SH 30 in Walker County, Texas. The proposed project would replace existing main-lane pavement with new pavement and widen to six travel-lanes (three north and three south), from four travel lanes, currently, (two north and two south). The main-lane widening would be accomplished by adding additional lanes to the inside of the existing main-lanes. The project also includes adding collector-distributor roads, which are roads that parallel and connect the main travel lanes and frontage roads. The proposed improvements are needed to bring the interstate facility up to current standards for design and safety to increase capacity in order to meet future traffic volumes. The purpose of the project is to enhance freight mobility and address congestion along the IH 45 corridor. The actions by TxDOT and Federal agencies and the laws under which such actions were taken are described in the Open-ended (d) CE classification letter approved on January 04, 2019, and other related documents can be found in the TxDOT project file. The Categorical Exclusion Determination and other documents in the TxDOT project file are available by contacting TxDOT at the address provided above or the TxDOT Bryan District Office at 2591 North Earl Rudder Freeway, Bryan, Texas 77803; telephone (979) 778-9764.

3. US 59 from FM 2021 to 0.34 miles north of US 59/SL 287, Angelina County, Texas. The purpose of the proposed project is to upgrade US 59 to meet interstate standards by providing two-lane north and south bound frontage roads from FM 2021 to 0.34 miles north of US 59 and Loop 287 near Redland, Texas. The proposed project also includes sidewalks and reconstruction of main lanes with flush median. The proposed project is 2.45 miles in length. The actions by TxDOT and Federal agencies and the laws under which such actions were taken are described in the Categorical Exclusion approved on July 31, 2018, and the Amendment to Categorical Exclusion Determination issued on January 14, 2019, and other documents in the TxDOT project file. The Categorical Exclusion Determination and other documents in the TxDOT project file are available by contacting TxDOT at the address provided above or the TxDOT Lufkin District Office at 1805 North Timberland Drive, Lufkin, TX 75901; telephone (936) 633-4395.

4. County Road (CR) 101 (Bailey Road) from CR 90 to Farm-to-Market Road (FM) 1128 (Manvel Road) in Brazoria County, Texas. The 2.2 mile project will widen CR 101 to a four-lane divided boulevard with raised median, left-turn bays, a sidewalk, curb-and-gutter drainage and a detention pond. The actions by TxDOT and Federal agencies and the laws under which such actions were taken are described in the Categorical Exclusion Determination approved January 25, 2019 and other documents in the TxDOT project file. The Categorical Exclusion Determination and other documents in the TxDOT project file are available by contacting TxDOT at the address provided above or the TxDOT Houston District Office located at 7600 Washington Avenue, Houston, Texas 77007; telephone (713) 802-5076.

5. IH 35 from South of Lakeway Drive to South of Williams Drive, Williamson County, Texas. The project includes reconstructing the existing IH 35 at Williams Drive interchange, modifying the frontage roads, constructing collector/distributor roads and a shared use path. The project is approximately 2 miles in length. The actions by TxDOT and Federal agencies and the laws under which such actions were taken are described in the Categorical Exclusion Determination issued on January 25, 2019 and other documents in the TxDOT project file. The Categorical Exclusion Determination and other documents in the TxDOT project file are available by contacting TxDOT at the address provided above or the TxDOT Austin District Office at 7901 North I-35, Austin, TX 78753; telephone (512) 832-7000.

6. SH 71 from FM 2765 to FM 1300 in Wharton County, Texas. The proposed project would construct a center left turn lane and add an additional travel lane in each direction from FM 2765 to FM 1300 for a length of 1.643 miles. The purpose of the project is to improve safety and mobility. The actions by TxDOT and Federal agencies and the laws under which such actions were taken are described in the Categorical Exclusion Determination issued on February 4, 2019 and other documents in the TxDOT project file. The Categorical Exclusion Determination and other documents in the TxDOT project file are available by contacting TxDOT at the address provided above or the TxDOT Yoakum District Office at 403 Huck St., Yoakum, TX 77995; telephone (361) 293-4436.

7. US 87 at Guadalupe River in DeWitt County, Texas. The proposed project would construct a new bridge parallel to the existing bridge to create a one-way pair structure over the Guadalupe River. The project would also realign the intersection of US 87 and US 183 at the south end of the project. The length of the project is 1.212 miles. The purpose of the project is to construct a new bridge that meets current design and safety standards. The actions by TxDOT and Federal agencies and the laws under which such actions were taken are described in the Categorical Exclusion Determination issued on February 4, 2019 and other documents in the TxDOT project file. The Categorical Exclusion Determination and other documents in the TxDOT project file are available by contacting TxDOT at the address provided above or the TxDOT Yoakum District Office at 403 Huck St., Yoakum, TX 77995; telephone (361) 293-4436.

8. US 90 over the Colorado River in Colorado County, Texas. The proposed project would construct a new bridge parallel to the existing bridge to create a one-way pair structure over the Colorado River. The length of the project is 0.364 mile. The purpose of the project is to construct a new bridge that meets current design and safety standards. The actions by TxDOT and Federal agencies and the laws under which such actions were taken are described in the Categorical Exclusion Determination issued on February 7, 2019 and other documents in the TxDOT project file. The Categorical Exclusion Determination and other documents in the TxDOT project file are available by contacting TxDOT at the address provided above or the TxDOT Yoakum District Office at 403 Huck St., Yoakum, TX 77995; telephone (361) 293-4436.

9. Red Bluff Road from Kirby Boulevard to State Highway 146, in Harris County, Texas. The 1.5 mile project will construct two new eastbound lanes and convert the existing roadway to westbound lanes, separated by a raised median. The project will also include the addition of a two-lane eastbound bridge (with a 10-foot-wide shared-use trail) parallel to the existing Taylor Lake Bridge. The existing undivided two-lane bridge will be improved to facilitate two lanes of westbound traffic and a wide shoulder lane. The actions by TxDOT and Federal agencies and the laws under which such actions were taken are described in the Categorical Exclusion Determination approved February 19, 2019 and other documents in the TxDOT project file. The Categorical Exclusion Determination and other documents in the TxDOT project file are available by contacting TxDOT at the address provided above or the TxDOT Houston District Office located at 7600 Washington Avenue, Houston, Texas 77007; telephone (713) 802-5076.

10. Farm-to-Market (FM) 521 from FM 2234 to State Highway (SH) 6 in Fort Bend County, Texas. The 5.3 mile project will reconstruct and widen the FM 521 roadway from a two-lane undivided roadway to a four-lane divided roadway. The project also includes raised medians, a grade separation over FM 521 at Broadway Street, and a sidewalk on the east side of the roadway, intersection improvements, and turn lanes at various locations. The actions by TxDOT and Federal agencies and the laws under which such actions were taken are described in the Categorical Exclusion Determination approved February 19, 2019 and other documents in the TxDOT project file. The Categorical Exclusion Determination and other documents in the TxDOT project file are available by contacting TxDOT at the address provided above or the TxDOT Houston District Office located at 7600 Washington Avenue, Houston, Texas 77007; telephone (713) 802-5076.

11. FM 1516 from IH 10 East to FM 78, Bexar County, Texas. The project includes widening the roadway from two lanes to four lanes with a center turn lane. Sidewalks and bike lanes are also included with the project. The project is approximately 3.7 miles in length. The actions by TxDOT and Federal agencies and the laws under which such actions were taken are described in the Categorical Exclusion Determination issued on February 21, 2019 and other documents in the TxDOT project file. The Categorical Exclusion Determination and other documents in the TxDOT project file are available by contacting TxDOT at the address provided above or the TxDOT San Antonio District Office at 4615 NW Loop 410, San Antonio, TX 78229; telephone (210) 615-5839.

12. US 175 from FM 148 to CR 4106 in Kaufman County, Texas. The proposed project would entail the construction of a new frontage road on the south side of US 175. The existing two-way frontage road on the north side of US 175 would be changed to one-way operation. The length of the proposed project is approximately 2.8 miles. The purpose of the proposed project is to improve the safety, mobility and access along the south side of US 175 and to accommodate future traffic demand in the area. The actions by TxDOT and Federal agencies and the laws under which such actions were taken are described in the documentation supporting the Categorical Exclusion (CE) Determination approved on February 22, 2019, and other documents in the TxDOT project file. The CE Determination and other documents are available by contacting TxDOT at the address provided above or the TxDOT Dallas District Office at 4777 E Highway 80, Mesquite, TX 75150; telephone: (214) 320-4480.

13. FM 1518 from FM 78 to IH 10, Bexar County, Texas. The project includes widening the roadway from two lanes to four lanes with a raised median. A shared use path is also included with the project. The project is approximately 5.53 miles in length. The actions by TxDOT and Federal agencies and the laws under which such actions were taken are described in the Categorical Exclusion Determination issued on February 25, 2019 and other documents in the TxDOT project file. The Categorical Exclusion Determination and other documents in the TxDOT project file are available by contacting TxDOT at the address provided above or the TxDOT San Antonio District Office at 4615 NW Loop 410, San Antonio, TX 78229; telephone (210) 615-5839.

14. Smith Ranch Road from Hughes Ranch Road to north of Broadway (FM 518) in Brazoria County, Texas. The 0.76 mile project will widen Smith Ranch Road to a four-lane, divided roadway. The project will also include curb-and-gutter drainage with an underground storm sewer system, a raised median and a 10-foot-wide path on the west side of the roadway to accommodate both pedestrians and bicyclists. The actions by TxDOT and Federal agencies and the laws under which such actions were taken are described in the Categorical Exclusion Determination approved February 26, 2019 and other documents in the TxDOT project file. The Categorical Exclusion Determination and other documents in the TxDOT project file are available by contacting TxDOT at the address provided above or the TxDOT Houston District Office located at 7600 Washington Avenue, Houston, Texas 77007; telephone (713) 802-5076.

15. US 377 from South of FM 1171 to North of Crawford Road in Denton County, Texas. The proposed project would widen the proposed roadway from a two-lane rural roadway to a four-lane divided urban roadway that would consist of one 12-foot lane and one 14-foot lane in each direction with a 19-foot raised median. The proposed project would include dedicated left-turn lanes, signalized intersections, and six-foot sidewalks on both sides of the roadway for the entire length of the project. The length of the proposed project is approximately 6.130 miles. The purpose of the proposed project is to increase vehicle mobility and safety, decrease congestion and provide alternative modes of transportation within the project limits. The actions by TxDOT and Federal agencies and the laws under which such actions were taken are described in the documentation supporting the Categorical Exclusion (CE) Determination approved on March 13, 2019, and other documents in the TxDOT project file. The CE Determination and other documents are available by contacting TxDOT at the address provided above or the TxDOT Dallas District Office at 4777 E Highway 80, Mesquite, TX 75150; telephone: (214) 320-4480.

16. Loop 375 (Purple Heart Memorial Highway) from Spur 601 (Liberty Expressway) to US 62/180 (Montana Avenue) in El Paso County, Texas. The proposed Loop 375 project would improve mobility and reduce congestion by widening Loop 375 from the existing four-lane facility to a six-lane facility (three lanes in each direction), with three-lane frontage roads on either side of Loop 375 and a hike and bike trail along the southbound Loop 375 frontage road, which would be constructed in the first phase. The proposed project would also provide improvements to the Loop 375 and Spur 601 intersections by constructing three direct connectors, which would be constructed in a subsequent phase(s). The length of the proposed project is approximately 5.3 miles along Loop 375 and 0.1 mile along Spur 601. The actions by TxDOT and Federal agencies and the laws under which such actions were taken are described in the Final Environmental Assessment (EA) approved on January 18, 2019, Finding of No Significant Impact (FONSI) issued on January 18, 2019 and other documents in the TxDOT project file. The Environmental Assessment and other documents in the TxDOT project file are available by contacting TxDOT at the address provided above or the TxDOT El Paso District, 13301 Gateway West, El Paso, TX 79928; telephone (915) 790-4340.

17. FM 2514 from East of Lavon Parkway to Brown Street in Collin County, Texas. The proposed project would widen an existing two-lane roadway to a four-lane (ultimately six-lane) urban divided highway with a 14-foot outside shared-use lane and an 11-foot inside lane with a 40-foot raised center median. The length of the proposed project is approximately 3.34 miles. The purpose of the proposed project is to reduce congestion and enhance safety. The actions by TxDOT and Federal agencies and the laws under which such actions were taken are described in the Final Environmental Assessment (EA) approved on February 5, 2019, Finding of No Significant Impact (FONSI) issued on February 5, 2019 and other documents in the TxDOT project file. The EA and other documents are available by contacting TxDOT at the address provided above or the TxDOT Dallas District Office at 4777 E Highway 80, Mesquite, TX 75150; telephone: (214) 320-4480.

18. IH 30 from Bass Pro Drive to West of FM 2642 Dallas and Rockwall Counties, Texas. Beginning at Bass Pro to Horizon, the proposed improvements would widen this existing section of the roadway to accommodate adding shoulders along the existing four mainlanes (currently 3 lanes and one auxiliary lane in each direction). From Dalrock Road to SH 205, the proposed improvements would reconstruct and widen this section from six mainlanes (3 lanes in each direction) to eight mainlanes (4 lanes in each direction), and would reconstruct the four discontinuous frontage roads (2 lanes in each direction) to six-lane continuous frontage roads (3 lanes in each direction), to include bicycle and pedestrian accommodations crossing Lake Ray Hubbard. From SH 205 to West of FM 2642 (Hunt County Line), the proposed improvements would reconstruct and widen this section from four mainlanes (2 lanes in each direction) to six mainlanes (3 lanes in each direction), and would reconstruct the existing four lane frontage roads (two lanes in each direction). Other improvements for this project include the reconstruction of interchanges at Horizon Road, FM 548, and FM 35, construction of new interchanges at Ben Payne Road/Rochelle Road, Blackland Road, and Floyd Road (future Outer Loop), and associated ramp modifications. The length of the proposed project is approximately 17 miles. The purpose of the proposed project is to reduce traffic congestion and improve mobility along IH-30 within the project limits. The actions by TxDOT and Federal agencies and the laws under which such actions were taken are described in the Final Environmental Assessment (EA) approved on March 19, 2019, Finding of No Significant Impact (FONSI) issued on March 19, 2019 and other documents in the TxDOT project file. The EA and other documents are available by contacting TxDOT at the address provided above or the TxDOT Dallas District Office at 4777 E Highway 80, Mesquite, TX 75150; telephone: (214) 320-4480.

19. FM 16 from 4 miles west of FM 849 (CR 481-E) to US 69 in Lindale, Smith County, Texas. The project includes the resurfacing of the existing roadway from 4 miles west of FM 849 (CR 481-E) to approximately 1250 ft. west of CR 479. After resurfacing, this section would be striped to accommodate two 12-ft.-wide lanes in each direction with 2-ft.-wide shoulders. No capacity would be added or other improvements made within this section. The roadway, between the resurfaced section and US 69, would be reconstructed as either three-lanes or five-lanes, as described below. The length of the project, including all transitions, is approximately 4.4 miles. From approximately 1250 ft. west of CR 479 to approximately 500 ft. west of the intersection with CR 436, FM 16 would be reconstructed as a three-lane rural highway. From west of CR 436 to the future intersection with Toll 49, FM 16 would be reconstructed as a five-lane rural highway. From Toll 49 to US 69, FM 16 would be reconstructed as a five-lane urban section. The actions by TxDOT and Federal agencies and the laws under which such actions were taken are described in the Final Environmental Assessment approved on March 8, 2019, the Finding of No Significant Impact issued on March 8, 2019, and other documents in the TxDOT project file. The EA, FONSI and other documents in the TxDOT project file are available by contacting TxDOT at the address provided above or the TxDOT Tyler District Office at 2709 W Front St., Tyler, TX 75702; telephone (903) 510-9267.

20. IH 35 from FM 3406 to RM 1431, Williamson County, Texas. The project includes widening the northbound frontage road, grading and improvements to drainage and driveway areas. The project is approximately 1.65 miles in length. The actions by TxDOT and Federal agencies and the laws under which such actions were taken are described in the Categorical Exclusion Determination issued on February 20, 2019 and other documents in the TxDOT project file. The Categorical Exclusion Determination and other documents in the TxDOT project file are available by contacting TxDOT at the address provided above or the TxDOT Austin District Office at 7901 North I-35, Austin, TX 78753; telephone (512) 832-7000.

21. Deck Plaza from Marsalis Avenue to Ewing Avenue in Dallas County, Texas. The proposed project proposes to construct a deck plaza over IH 35E from Marsalis Avenue to Ewing Avenue. The deck would be constructed to ultimately create an approximate 5.5 acre urban deck plaza sponsored by the City of Dallas. The purpose of the proposed project is to provide an enhancement to the community, encourage economic development opportunities in the area, and improve pedestrian and bicycle connectivity in the project area. The actions by TxDOT and Federal agencies and the laws under which such actions were taken are described in, the Categorical Exclusion Determination issued on July 14, 2017, and other documents in the TxDOT project file. The Categorical Exclusion Determination and other documents in the TxDOT project file are available by contacting TxDOT at the address provided above or the TxDOT Dallas District Office at 4777 E Highway 80, Mesquite, TX 75150; telephone (214) 320-4480.

22. US 67 from Belt Line Road to IH 20 in Dallas County, Texas. The proposed project would widen the roadway from a four-lane to a six-lane divided highway. The proposed roadway would include one additional 12-foot travel lane with a 10-foot outside shoulder and four-foot inside shoulder in each direction. Proposed improvements would also include the addition of U-turn bridges at Belt Line Road and FM 1382. The length of the proposed project is approximately 5.7 miles. The purpose of the proposed project is to reduce traffic congestion and correct roadway deficiencies. The actions by TxDOT and Federal agencies and the laws under which such actions were taken are described in, the Categorical Exclusion Determination issued on February 3, 2017, and other documents in the TxDOT project file. The Categorical Exclusion Determination and other documents in the TxDOT project file are available by contacting TxDOT at the address provided above or the TxDOT Dallas District Office at 4777 E Highway 80, Mesquite, TX 75150; telephone (214) 320-4480.

Authority: 23 U.S.C. 139(l)(1).

Issued on: April 5, 2019.
Michael T. Leary,
Director, Planning and Program Development, Federal Highway Administration.

[FR Doc. 2019-07178 Filed 4-17-19; 8:45 am]

BILLING CODE 4910-22-P